DEPARTMENT OF AGRICULTURE

Rural Utilities Service

7 CFR Parts 1775

[Docket Number: RUS-24-WATER-0031]

Technical Assistance Grants

AGENCY: Rural Utilities Service, USDA.

ACTION: Final rule.

SUMMARY: The Rural Utilities Services (RUS or Agency), an agency in the United States Department of Agriculture (USDA) Rural Development (RD) Mission area, is issuing a final rule to update the Water and Environmental Programs' (WEP) Technical Assistance Grants regulation by updating the audit and financial statement language to align with the Office of Management and Budgets (OMB) 2024 revisions.

DATES: Effective date: October 11, 2024.

FOR FURTHER INFORMATION CONTACT: Michele Brooks, Assistant Administrator, Water and Environmental Programs, United States Department of Agriculture, 1400 Independence Avenue SW, Stop 1548, Room 4121-South Building, Washington, DC 20250-1548. Telephone: (202) 692-0308. Email: michele.brooks@usda.gov.

SUPPLEMENTARY INFORMATION:

I. Background

RD is a mission area within USDA comprised of the RUS, the Rural Business-Cooperative Service and Rural Housing Service that strives to increase economic opportunity and improve the quality of life for all rural Americans. RD invests in rural America with loan, grant, and loan guarantee programs to help drive economic security and prosperity.

Rural communities obtain the technical assistance and financing necessary to develop drinking water and waste disposal systems through RUS WEP. Safe drinking water and sanitary waste disposal systems are vital not only to public health, but also to the economic vitality of rural America. RD is a leader in helping rural America improve the quality of life and increase the economic opportunities for rural people.

OMB revised several parts of OMB Guidance for Grants and Agreements which is now called OMB Guidance for Federal Financial Assistance and is located in title 2 of the Code of Federal Regulations. The revisions were published in the Federal Register on April 22, 2024, at 89 FR 30046. The revisions must be implemented by October 1, 2024, but can be implemented any time after June 21, 2024. This final rule is being published as a technical/administrative correction to ensure the Agency's audit and financial statement requirements align with the OMB revisions made to 2 CFR part 200.

II. Summary of Changes

Section 1775.21(a) and (b) were updated to remove the $750,000 monetary amount in order to reference the current Single Audit threshold and to amend the audit submission deadline. The audit submission requirement was updated to be thirty (30) calendar days after the auditee receives the auditor's report or nine (9) months after the end of the grantee's fiscal year, whichever is earlier. These changes were made to align with the updates to 2 CFR part 200.

III. Executive Orders

Executive Order 12866—Classification

This final rule is exempt from OMB review for purposes of Executive Order 12866 and, therefore, has not been reviewed by OMB.

Congressional Review Act

This rule is not subject to the Congressional Review Act (“CRA”) (5 U.S.C. 801 et seq.), as the CRA provides an exemption for any rule relating to agency management or personnel and for rules relating to agency organization, procedure, or practice that does not substantially affect the rights or obligations of non-agency parties.

Assistance Listing Number (Formally Known as the Catalog of Federal Domestic Assistance)

The Assistance Listing Numbers assigned to the programs affected by this final rule are 10.761—Technical Assistance and Training Grants and 10.762—Solid Waste Management Systems Grants. The Assistance Listings are available at SAM.gov.

Executive Order 12372—Intergovernmental Consultation

The Assistance Listing Numbers are 10.761 and 10.762 for these programs and are subject to the provisions of Executive Order 12372 which requires intergovernmental consultation with State and local officials

Paperwork Reduction Act

This final rule contains no reporting or recordkeeping provisions under OMB Control Number 0572-0112 requiring OMB approval under the Paperwork Reduction Act of 1995 (44 U.S.C. chapter 35).

National Environmental Policy Act

In accordance with the National Environmental Policy Act of 1969, Public Law 91-190, this final rule has been reviewed in accordance with 7 CFR part 1970 (“Environmental Policies and Procedures”). The Agency has determined that: (i) This action meets the criteria established in 7 CFR 1970.53(f); (ii) No extraordinary circumstances exist; and (iii) The action is not “connected” to other actions with potentially significant impacts, is not considered a “cumulative action” and is not precluded by 40 CFR 1506.1. Therefore, the Agency has determined that the action does not have a significant effect on the human environment, and therefore neither an Environmental Assessment nor an Environmental Impact Statement is required.

Regulatory Flexibility Act Certification

RUS certifies that this rule will not have a significant economic impact on a substantial number of small entities, as defined in the Regulatory Flexibility Act (5 U.S.C. 601 et seq.). The RUS Water and Waste loan and grant programs provide loans to borrowers at interest rates and terms that are more favorable than those generally available from the private sector. RUS borrowers, as a result of obtaining Federal financing, receive economic benefits that exceed any direct economic costs associated with complying with RUS regulations and requirements.

Administrative Pay-As-You-Go-Act of 2023

Section 270 of the Administrative Pay-As-You-Go-Act of 2023 (Pub. L. 118-5, div. B, title III, 137 Stat 31) amended 5 U.S.C. 801(a)(2)(A) to require U.S. Government Accountability Office (GAO) to assess agency compliance with the Act, which establishes requirements for administrative actions that affect direct spending, in GAO's major rule reports. The Act does not apply to this rule because it does not increase direct spending.

Executive Order 12988—Civil Justice Reform

This rule has been reviewed under Executive Order 12988. In accordance with this rule: (1) unless otherwise specifically provided, all State and local laws that conflict with this rule will be preempted; (2) no retroactive effect will be given to this rule except as specifically prescribed in the rule; and (3) administrative proceedings of the National Appeals Division of the Department of Agriculture (7 CFR part 11) must be exhausted before bringing suit in court that challenges action taken under this rule.

Unfunded Mandates Reform Act

This final rule contains no Federal Mandates (under the regulatory provision of title II of the Unfunded Mandates Reform Act of 1995 (2 U.S.C. chapter 25) for State, local, and Tribal governments, or the private sector. Thus, this final rule is not subject to the requirements of sections 202 and 205 of the Unfunded Mandates Reform Act of 1995.

Executive Order 13132—Federalism

The policies contained in this rule do not have any substantial direct effect on States, on the relationship between the National Government and the States, or on the distribution of power and responsibilities among the various levels of government. Nor does this rule impose substantial direct compliance costs on State and local governments. Therefore, consultation with the States is not required.

Executive Order 13175—Consultation and Coordination With Indian Tribal Governments

This Executive order imposes requirements on RUS in the development of regulatory policies that have Tribal implications or preempt Tribal laws. The Agency has determined that the final rule does not have a substantial direct effect on one or more Indian tribe(s) or on either the relationship or the distribution of powers and responsibilities between the Federal Government and Indian tribes. Thus, this final rule is not subject to the requirements of Executive Order 13175. If Tribal leaders are interested in consulting with the Agencies on this final rule, they are encouraged to contact USDA's Office of Tribal Relations or RD's Native American Coordinator at: AIAN@usda.gov to request such a consultation.

E-Government Act Compliance

RD is committed to the E-Government Act, which requires Government agencies in general to provide the public the option of submitting information or transacting business electronically to the maximum extent possible and to promote the use of the internet and other information technologies to provide increased opportunities for citizen access to Government information and services, and for other purposes.

Civil Rights Impact Analysis

RD has reviewed this final rule in accordance with USDA Regulation 4300-4, Civil Rights Impact Analysis, to identify any major civil rights impacts the rule might have on program participants on the basis of age, race, color, national origin, sex, disability, marital or familial status. Based on the review and analysis of the rule and all available data, issuance of this final rule is not likely to negatively impact low and moderate-income populations, minority populations, women, Indian tribes or persons with disability, by virtue of their age, race, color, national origin, sex, disability, or marital or familial status. No major civil rights impact is likely to result from this final rule.

USDA Non-Discrimination Statement

In accordance with Federal civil rights laws and USDA civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; or the 711 Relay Service.

To file a program discrimination complaint, a complainant should complete a Form AD-3027, USDA Program Discrimination Complaint Form, which can be obtained online at www.usda.gov/sites/default/files/documents/ad-3027.pdf, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: Program.Intake@usda.gov.

List of Subjects in 7 CFR Part 1775

Business and industry, Community development, Community facilities, Grant programs—housing and community development, Reporting and recordkeeping requirements, Rural areas, Waste treatment and disposal, Water supply, Watersheds.

Accordingly, for the reasons set forth in the preamble, the Agency amends 7 CFR part 1775 as follows:

PART 1775—TECHNICAL ASSISTANCE GRANTS

1. The authority citation for part 1775 continues to read as follows:

Authority: 5 U.S.C. 301; 7 U.S.C. 1989; 16 U.S.C. 1005.

Subpart B—Grant Application Processing

2. Amend § 1775.21 by revising paragraphs (a) and (b) to read as follows:

§ 1775.21 Audit or financial statements.

* * * * *

(a) In accordance with subpart F of 2 CFR part 200, as adopted by USDA through 2 CFR part 400, grantees expending Federal funds each fiscal year equal to or greater than the current Single Audit threshold will submit an audit. The audit will be submitted within 30 calendar days after the auditee receives the auditor's report or 9 months after the end of the grantee's fiscal year, whichever is earlier.

(b) Grantees expending less than the current Single Audit dollar threshold will provide annual financial statements covering the grant period, consisting of the organization's statement of income and expense, and balance sheet signed by an authorized official of the organization. Financial statements will be submitted within 90 days after the grantee's fiscal year end.

Andrew Berke,
Administrator, Rural Utilities Service, Rural Development.

[FR Doc. 2024-23512 Filed 10-10-24; 8:45 am]

BILLING CODE 3410-15-P